LEGAL SERVICES CORPORATION

45 CFR Part 1611

Income Level for Individuals Eligible for Assistance

AGENCY: Legal Services Corporation.

ACTION: Final rule.

SUMMARY: The Legal Services Corporation (“Corporation”) is required by law to establish maximum income levels for individuals eligible for legal assistance. This document updates the specified income levels to reflect the annual amendments to the Federal Poverty Guidelines as issued by the Department of Health and Human Services.

DATES: Effective date: This rule is effective as of February 4, 2013.

FOR FURTHER INFORMATION CONTACT: Kara Ward, Assistant General Counsel, Legal Services Corporation, 3333 K St. NW., Washington, DC 20007; (202) 295-1596; karaward@lsc.gov.

SUPPLEMENTARY INFORMATION: Section 1007(a)(2) of the Legal Services Corporation Act (Act), 42 U.S.C. 2996f(a)(2), requires the Corporation to establish maximum income levels for individuals eligible for legal assistance, and the Act provides that other specified factors shall be taken into account along with income.

Section 1611.3(c) of the Corporation's regulations establishes a maximum income level equivalent to one hundred and twenty-five percent (125%) of the Federal Poverty Guidelines. Since 1982, the Department of Health and Human Services has been responsible for updating and issuing the Federal Poverty Guidelines. The figures for 2013 set out below are equivalent to 125 percent (125%) of the current Federal Poverty Guidelines as published on January 24, 2013 (78 FR 5182).

In addition, LSC is publishing charts listing income levels that are two hundred percent (200%) of the Federal Poverty Guidelines. These charts are for reference purposes only as an aid to grant recipients in assessing the financial eligibility of an applicant whose income is greater than 125 percent (125%) of the applicable Federal Poverty Guidelines amount, but less than 200 percent (200%) of the applicable Federal Poverty Guidelines amount (and who may be found to be financially eligible under duly adopted exceptions to the annual income ceiling in accordance with sections 1611.3, 1611.4 and 1611.5).

List of Subjects in 45 CFR Part 1611

Grant programs—law, Legal services.

For reasons set forth in the preamble, the Legal Services Corporation amends 45 CFR part 1611 as follows:

PART 1611—ELIGIBILITY

1. The authority citation for part 1611 continues to read as follows:

Authority: Secs. 1006(b)(1), 1007(a)(1) Legal Services Corporation Act of 1974, 42 U.S.C. 2996e(b)(1), 2996f(a)(1), 2996f(a)(2).

2. Revise Appendix A to part 1611 to read as follows:

Appendix A to Part 1611—Income Level for Individuals Eligible for Assistance

Legal Services Corporation 2013 Income Guidelines *
Size of household | 48 Contiguous States and the District of Columbia | Alaska | Hawaii
1 | $14,363 | $17,938 | $16,538
2 | 19,388 | 24,225 | 22,313
3 | 24,413 | 30,513 | 28,088
4 | 29,438 | 36,800 | 33,863
5 | 34,463 | 43,088 | 39,638
6 | 39,488 | 49,375 | 45,413
7 | 44,513 | 55,663 | 51,188
8 | 49,538 | 61,950 | 56,963
For each additional member of the household in excess of 8, add: | 5,025 | 6,288 | 5,775
* The figures in this table represent 125% of the poverty guidelines by household size as determined by the Department of Health and Human Services.

Reference Chart—200% of DHHS Federal Poverty Guidelines
Size of household | 48 Contiguous States and the District of Columbia | Alaska | Hawaii
1 | 22,980 | $28,700 | $26,460
2 | 31,020 | 38,760 | 35,700
3 | 39,060 | 48,820 | 44,940
4 | 47,100 | 58,880 | 54,180
5 | 55,140 | 68,940 | 63,420
6 | 63,180 | 79,000 | 72,660
7 | 71,220 | 89,060 | 81,900
8 | 79,260 | 99,120 | 91,140
For each additional member of the household in excess of 8, add: | 8,040 | 10,060 | 9,240

Dated: January 29, 2013.
Victor M. Fortuno,
General Counsel.

[FR Doc. 2013-02325 Filed 2-1-13; 8:45 am]

BILLING CODE 7050-01-P